DEPARTMENT OF AGRICULTURE

Forest Service

Ravalli County Resource Advisory Committee

AGENCY: Forest Service, USDA.

ACTION: Notice of Meeting.

SUMMARY: The Ravalli County Resource Advisory Committee will be meeting to choose monitors for the projects that were awarded and a presentation on Education Weed Trunks. The meeting is being held pursuant to the authorities in the Federal Advisory Committee Act (Pub. L. 92-463) and under the Secure Rural Schools and Community Self-Determination Act of 2000 (Pub. L. 106-393). The meeting is open to the public.

DATES: The meeting will be held on October 23, 2007, 6:30 p.m.

ADDRESSES: The meeting will be held at the Bitterroot National Forest Supervisor Office, 1801 N. 1st Street, Hamilton, Montana. Send written comments to Dan Ritter, District Ranger, Stevensville Ranger District, 88 Main Street, Stevensville, MT 59870, by facsimile (406) 777-7423, or electronically to dritter@fs.fed.us.

FOR FURTHER INFORMATION CONTACT: Dan Ritter, Stevensville District Ranger and Designated Federal Officer, Phone: (406) 777-5461.

Dated: October 10, 2007.
Barry Paulson,
Acting Forest Supervisor.

[FR Doc. 07-5109 Filed 10-19-07; 8:45 am]

BILLING CODE 3410-11-M